NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 part 671 of the Code of Federal Regulations. This is the required notice of permit applications received.

DATES: Interested parties are invited to submit written data, comments, or views with respect to this permit application by August 1, 2014. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Li Ling Hamady, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2015-003

1. Applicant

Dr. Terrie M. Williams, COH-Long Lab, 100 Shaffer Road, UCSC, Santa Cruz, CA 95060.

Activity for Which Permit is Requested

Take; Import into the USA. The applicant plans to capture up to 36 adult Weddell seals each season over the course of 4 years. The seals will be measured and weighed; blood samples will be taken and removable, small cameras will be attached to the fur; seals will be transported to nearby sites, released, recaptured, and ultimately released sans cameras. The samples and data will be used to test sub-ice navigation and orientation to understand the key sensory modalities for locating breathing holes in the sea ice.

Location

McMurdo Sound

Dates

September 1, 2014 to December 31, 2017.

Nadene G. Kennedy,
Polar Coordination Specialist, Division of Polar Programs.

[FR Doc. 2014-15500 Filed 7-1-14; 8:45 am]

BILLING CODE 7555-01-P